DEPARTMENT OF COMMERCE

National Oceanic and Atmospheric Administration

RIN 0648-XV028

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Scientific and Statistical Committee (SSC) will hold a meeting.

DATES: The meeting will be held on Monday, September 9, 2019, starting at 1 p.m. and continue through 12 noon on Wednesday, September 11, 2019. See SUPPLEMENTARY INFORMATION for agenda details.

ADDRESSES: The meeting will take place at the Royal Sonesta Harbor Place, 550 Light Street, Baltimore, MD 21202; telephone: (410) 234-0550.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The purpose of this meeting is to make multi-year acceptable biological catch (ABC) recommendations for scup, black sea bass and bluefish based on the results of the recently completed operational stock assessment updates. The SSC will recommend 2020-21 ABC specifications for all three species. The SSC will also review the most recent survey and fishery data and the previously recommended 2020 ABC for summer flounder and spiny dogfish. The SSC will review and provide feedback on the development of the Council's 2020-24 Research Plan and will review and discuss future SSC membership. In addition, the SSC may take up any other business as necessary.

A detailed agenda and background documents will be made available on the Council's website (www.mafmc.org) prior to the meeting.

Special Accommodations

The meeting is physically accessible to people with disabilities. Requests for sign language interpretation or other auxiliary aid should be directed to M. Jan Saunders, (302) 526-5251, at least 5 days prior to the meeting date.

Dated: August 13, 2019.
Tracey L. Thompson,
Acting Deputy Director, Office of Sustainable Fisheries, National Marine Fisheries Service.

[FR Doc. 2019-17628 Filed 8-15-19; 8:45 am]

BILLING CODE 3510-22-P